DEPARTMENT OF THE INTERIOR

Fish and Wildlife Service

[FWS-HQ-IA-2014-N047; FXIA16710900000-145-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before April 14, 2014.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: Wildlife World Zoo, Litchfield Park, AZ; PRT-20003B

The applicant requests a permit to import two male and one female captive-bred cheetah (Acinonyx jubatus) from the DeWildt Cheetah Breeding Center, DeWildt, South Africa, for the purpose of enhancement of the species through conservation education and captive propagation.

Applicant: Zoological Society of San Diego, Escondido, CA; PRT-17469B

The applicant requests a permit to export two female captive-born California condors (Gymnogyps californianus) to the Chapultepec Zoo, Mexico, for the purpose of enhancement of the species through captive propagation and conservation education.

Applicant: Los Angeles Zoo, Los Angeles, CA; PRT-22125B

The applicant requests a permit to export five male captive-bred woylie (Bettongia penicillata) to the Budapest Zoo and Botanical Garden, Budapest, Hungary, for the purpose of enhancement of the species through conservation education and captive propagation.

Multiple Applicants

The following applicants each request a permit to import a sport-hunted trophy of one male straight-horned markhor (Capra falconeri jerdoni) taken from the wild in the Torghar region of Pakistan, for the purpose of enhancement for the survival of the species.

Applicant: Steven Hornady, Grand Island, NE; PRT-28675B

Applicant: Jerry Brenner, West Olive, MI; PRT-28677B

Applicant: Alan Sackman, Sands Point, NY; PRT-28678B

Applicant: Barbara Sackman, Sands Point, NY; PRT-28679B

Applicant: Trevor Ahlberg, Irving, TX; PRT-28680B

Applicant: Daniel Smith, San Jose, CA; PRT-28682B

Applicant: Renee Snider, Elk Grove, CA; PRT-28684B

Applicant: Craig Boddington, Paso Robles, CA; PRT-28687B

Applicant: Joseph Smith, Fife, WA; PRT-28691B

Brenda Tapia,
Program Analyst/Data Administrator, Branch of Permits, Division of Management Authority.

[FR Doc. 2014-05604 Filed 3-13-14; 8:45 am]

BILLING CODE 4310-55-P